DEPARTMENT OF LABOR

Employment and Training Administration

[TA-W-65,395]

Sappi Paper Products; Westbrook, ME; Notice of Termination of Investigation

Pursuant to Section 221 of the Trade Act of 1974, as amended, an investigation was initiated on February 26, 2009 in response to a petition filed by the United Steelworkers Union, Local 1069, on behalf of the workers at SAPPI Fine Paper, N.A., Westbrook, Maine.

The petitioners have requested that the petition be withdrawn. Consequently, the investigation has been terminated.

Signed at Washington, DC, this 16th day of March 2009.
Richard Church,
Certifying Officer, Division of Trade Adjustment Assistance.

[FR Doc. E9-7110 Filed 3-30-09; 8:45 am]

BILLING CODE 4510-FN-P